FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202)-523-5793 or tradeanalysis@fmc.gov.

Agreement No.: 012274-001.

Agreement Name: OVSA/PIL Space Charter and Cooperative Working Agreement.

Parties: Hamburg Sud; Hapag Lloyd AG; CMA CGM S.A. and ANL Singapore Pte Ltd. (acting as a single party); and Pacific International Lines (Pte) Ltd.

Filing Party: Wayne Rohde; Cozen O'Connor.

Synopsis: The amendment deletes Hamburg Sud and replaces it with Maersk Line A/S, and deletes CMA CCM S.A. as a party to the Agreement. The amendment also revises the amount of space to be chartered, and adds operational and legal compliance provisions.

Proposed Effective Date: 1/18/2019.

Location: http://fmcinet/Fmc.Agreements.Web/Public/AgreementHistory/133.

Agreement No.: 201272-001.

Agreement Name: Kyowa/CNCo Pacific-Asia Slot Charter Agreement.

Parties: Kyowa Shipping Co., Ltd. and The China Navigation Co. Pte. Ltd.

Filing Party: Conte Cicala; Clyde & Co. US LLP.

Synopsis: The amendment revises the geographic scope of the Agreement.

Proposed Effective Date: 1/18/2019.

Location: http://fmcinet/Fmc.Agreements.Web/Public/AgreementHistory/16283.

Agreement No.: 201275-001.

Agreement Name: NBP/CNCo Pacific-Asia Slot Charter Agreement.

Parties: NYK Bulk & Project Carriers Ltd. and The China Navigation Co. Pte. Ltd.

Filing Party: Conte Cicala; Clyde & Co. US LLP.

Synopsis: The amendment revises the geographic scope of the Agreement.

Proposed Effective Date: 1/18/2019

Location: https://www2.fmc.gov/FMC.Agreements.Web/Public/AgreementHistory/20311.

Dated: December 7, 2018.
Rachel Dickon,
Secretary.

[FR Doc. 2018-26883 Filed 12-11-18; 8:45 am]

BILLING CODE 6731-AA-P